DEPARTMENT OF ENERGY

Federal Energy Regulatory Commission

[Project No. 10489-020]

City of River Falls Municipal Utilities; Notice of Application Tendered for Filing With the Commission and Establishing Procedural Schedule for Licensing and Deadline for Submission of Final Amendments

Take notice that the following hydroelectric application has been filed with the Commission and is available for public inspection.

a. Type of Application: Subsequent License.

b. Project No.: 10489-020.

c. Date Filed: August 26, 2021.

d. Applicant: City of River Falls Municipal Utilities (City of River Falls).

e. Name of Project: River Falls Hydroelectric Project (River Falls Project).

f. Location: The River Falls Project is located on the Kinnickinnic River in the City of River Falls in Pierce County, Wisconsin. The project does not occupy federal lands.

g. Filed Pursuant to: Federal Power Act, 16 U.S.C. 791(a)-825(r).

h. Applicant Contact: Kevin Westhuis, Utility Director of the City of River Falls Municipal Utilities; kwesthuis@rfcity.org (preferred contact) or (715) 426-3442.

i. FERC Contact: Shana Wiseman at (202) 502-8736 or email at shana.wiseman@ferc.gov.

j. This application is not ready for environmental analysis at this time.

k. The River Falls Project consists of: (1) A 140-foot-long, 32-foot-high concrete dam; (2) an impoundment with a surface area of 15.5 acres; (3) a 200-foot-long, 6-foot-diameter penstock; (4) a powerhouse containing one generating unit rated at 250 kilowatts; (5) a 50-foot-long transmission line; and (6) appurtenant facilities.

The River Falls Project is operated in a run-of-river mode with an estimated annual energy production of approximately 1,220,000 kilowatt hours. The City of River Falls proposes to continue operating the project as a run-of-river facility and does not propose any new construction to the project.

l. A copy of the application can be viewed on the Commission's website at http://www.ferc.gov using the “eLibrary” link. Enter the docket number excluding the last three digits in the docket number field to access the document. At this time, the Commission has suspended access to the Commission's Public Reference Room due to the proclamation declaring a National Emergency concerning the Novel Coronavirus Disease (COVID-19) issued on March 13, 2020. For assistance, contact FERC at FERCOnlineSupport@ferc.gov or call toll-free, (866) 208-3676 or (202) 502-8659 (TTY).

m. You may also register online at http://www.ferc.gov/docs-filing/esubscription.asp to be notified via email of new filings and issuances related to this or other pending projects. For assistance, contact FERC Online Support.

n. Procedural Schedule: The application will be processed according to the following preliminary schedule. Revisions to the schedule will be made as appropriate.

Milestone | Target date
Issue Deficiency Letter (if necessary) | September 2021.
Request Additional Information | October 2021.
Notice of Acceptance/Notice of Ready for Environmental Analysis | February 2021.

o. Final amendments to the application must be filed with the Commission no later than 30 days from the issuance date of the notice of ready for environmental analysis.

Dated: September 2, 2021.
Kimberly D. Bose,
Secretary.

[FR Doc. 2021-19454 Filed 9-7-21; 8:45 am]

BILLING CODE 6717-01-P